FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 002550-007.

Title: New Orleans-Maersk Lease Agreement.

Parties: Board of Commissioners of the Port of New Orleans Maersk, Inc.

Synopsis: The amendment permits arrangements for special rates for certain cargo handled at the applicable terminal.

Agreement No.: 010977.

Title: Hispaniola Discussion Agreement.

Parties: A.P. Moller-Maersk Sealand

Crowley Liner Services, Inc.

Tecmarine Lines, Inc.

Seaboard Marine, Ltd.

Tropical Shipping and Construction Co., Ltd.

Frontier Liner Services, Inc.

Bernuth Agencies, Inc.

Synopsis: The proposed amendment deletes NPR, Inc. and Sea Star Line, LLC as parties to the Hispaniola Discussion Agreement.

* * * * *

Agreement No.: 011737-008.

Title: The MCA Agreement.

Parties:

Atlantic Container Line AB

Alianca Navegacao e Logistica Ltda

Antillean Marine Shipping Corporation

CMA CGM, S.A.

Companhia Libra De Navegacao

Compania Sud Americana De Vapores S.A.

CP Ships (UK) Limited, d/b/a ANZDL and d/b/a Contship Containerlines

Crowley Liner Services, Inc.

Dole Ocean Cargo Express, Inc.

Hamburg-Sud

Hapag-Lloyd Container Linie

King Ocean Central America S.A.

King Ocean Service De Colombia S.A.

King Ocean Service De Venezuela S.A.

Lykes Lines Limited, LLC

Montemar Maritima S.A.

Nippon Yusen Kaisha

Norasia Container Line Limited

P&O Nedlloyd Limited

Safmarine Container Lines N.V.

Tecmarine Lines, Inc.

TMM Lines Limited, LLC

Tropical Shipping & Construction Co., Ltd.

Wallenius Wilhelmsen Lines AS.

Synopsis: The proposed amendment adds P&O Nedlloyd Limited as a member and deletes all references to committees in the agreement.

Agreement No.: 011820.

Title: WWL/WLS Space Charter Agreement.

Parties:

Wallenius Wilhelmsen Lines AS

World Logistics Service (U.S.A.), Inc.

Synopsis: The proposed agreement would allow World Logistics to charter space for roll-on/roll-off cargo from Wallenius Wilhelmsen on its vessels operating from Veracruz, Mexico, to U.S. Atlantic and Gulf Coast ports. The parties request expedited review.

Agreement No.: 201006-004.

Title: New Orleans-P&O Ports LA Lease Agreement.

Parties:

Board of Commissioners of the Port of New Orleans

P&O Ports Louisiana, Inc.

Synopsis: The amendment amends the term of the agreement to permit the tenant to relocate to another of the port's facilities. It also adds provisions for special rate adjustments and minimum annual guarantee adjustments. The agreement now runs through October 31, 2003.

By order of the Federal Maritime Commission.
Dated: September 23, 2002.
Bryant L. VanBrakle,
Secretary.

[FR Doc. 02-25057 Filed 10-1-02; 8:45 am]

BILLING CODE 6730-01-P